DEPARTMENT OF THE INTERIOR

National Park Service

National Register of Historic Places; Notification of Pending Nominations and Related Actions

Nominations for the following properties being considered for listing or related actions in the National Register were received by the National Park Service before December 16, 2006.

Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by January 22, 2007.

John W. Roberts,
Acting Chief, National Register/National Historic Landmarks Program.

ALASKA

Bristol Bay Borough-Census Area

DIL-161 Site, Address Restricted, Alagnak Wild River, 06001306

ARIZONA

Maricopa County

North Encanto Historic District, Roughly bounded by 15th and 18th Aves., Thomas to Osborn Rds., Phoenix, 06001262

ARKANSAS

Arkansas County

Immanuel High School—AR0280, 68 Immanuel Rd., Almyra, 06001282

Ashley County

Parkdale Baptist Church—AS0051, 127 Bride St., Parkdale, 06001285

Baxter County

Cotter Water Tower, (New Deal Recovery Efforts in Arkansas MPS) NE of jct. of NE U.S. 62B and State St., Cotter, 06001280

Benton County

Coon Creek Bridge, (Historic Bridges of Arkansas MPS) Cty Rd. 24, Cherokee City, 06001264

Boone County

Harrison High School, 124 S. Cherry St., Harrison, 06001284

Zinc Swinging Bridge—BO0162, 8039 Washington St., Zinc, 06001286

Bradley County

Warren Brick Streets, (Arkansas Highway History and Architecture MPS) Portions of Cedar, Myrtle, Chestnut, 1st, Walnut, Elm and Cypress Sts., Warren, 06001277

Calhoun County

Tinsman School, SW corner of AR 274 and CR 38, Tinsman, 06001265

Clark County

US 67 Bridge over Little Missouri River, US 67, Prescott, 06001271

Crawford County

Mulberry River Bridge, (Historic Bridges of Arkansas MPS) Cty Rd. 67, Pleasant Hill, 06001272

Faulkner County

Washburn House, 40 Battles Loop, Guy, 06001279

Franklin County

Mulberry River Bridge, (Historic Bridges of Arkansas MPS) AR 23, Turner's Bend, 06001275

Jefferson County

St. Louis Southwestern Railway (Cotton Belt Route) Steam Locomotive #336, 1700 Port Rd., Pine Bluff, 06001276

United States Army Snow Plow #SN-87, 1700 Port Rd., Pine Bluff, 06001273

Johnson County

Bunch—Walton Post #22 American Legion Hut, (New Deal Recovery Efforts in Arkansas MPS) 201 Legion St., Clarksville, 06001269

Clarksville National Guard Armory, 309 College St., Clarksville, 06001270

Lee County

Marianna National Guard Armory, 45 W. Mississippi St., Marianna, 06001267

Marianna Waterworks, (New Deal Recovery Efforts in Arkansas MPS) 252 US 79, Marianna, 06001281

Mississippi County

Delta Valley & Southern Railway Locomotive #50, US 61 at the Delta Valley & Southern Railway Crossing, Delpro, 06001263

Keiser Water Tower, (New Deal Recovery Efforts in Arkansas MPS) Jct. of the Water and E. Main Sts., Keiser, 06001283

Phillips County

Helena National Guard Armory, (New Deal Recovery Efforts in Arkansas MPS) 511 Miller St., Helena—West Helena, 06001266

Phillips County Penal Farm Historic District, (New Deal Recovery Efforts in Arkansas MPS) Cty Rd. 353 S of U.S. 49, Poplar Grove, 06001268

St. Mary's Catholic Church, 123 Columbia, Helena—West Helena, 06001278

Saline County

Old Benton—Sardis Road Bridge, (Historic Bridges of Arkansas MPS) N of AR 183, approx 1.25 mi. E of Pine Haven Rd., Bauxite, 06001274

COLORADO

Denver County

Chateau, The, 900 Sherman St., Denver, 06001288

El Paso County

Monument Valley Park, Approx. bounded by Monroe, Culebra, Westview, Bijou Sts, BN&SF, and Wedge of main N/S trail, N. of Del Norte, Colorado Springs, 06001287

INDIANA

Adams County

Ceylon Covered Bridge, CR 900 S over Wabash R in Limberlost County Park, Ceylon, 06001289

Hendricks County

Amo THI & E Interurban Depot/Substation, 4985 Railroad St., Amo, 06001294

Jennings County

Annadale, 502 Jennings St., North Vernon, 06001292

State Street Historic District, Roughly bounded by Chestnut, Jackson, Jefferson, State Sts., North Vernon, 06001290

Marshall County

Jacoby Church and Cemetery, W side of N. King Rd., S of 8A Rd., Plymouth, 06001291

Porter County

Dune Acres Clubhouse, Clubhouse Dr., Dune Acres, 06001295

McCallum, William, House, 507 E. Lincolnway, Valparaiso, 06001293

MONTANA

Deer Lodge County

Anaconda Saddle Club, (Anaconda MPS) 2704 MT 1 W, Anaconda, 06001296

NEW JERSEY

Monmouth County

Romer Shoal Light Station, (Light Stations of the United States MPS) In Lower New York Bay, 3.8 mi. N of Sandy Hook, Highlands Borough, 06001304

NEW MEXICO

Dona Ana County

Summerford Mountain Archeological District, Address Restricted, Summerford Mountain, 06001302

NEW YORK

Chemung County

Everett, Dr. Hovey, House, 1594 Cty Rte 60, Lowman, 06001299

Livingston County

Sliker Cobblestone House, (Cobblestone Architecture of New York State MPS) 6050 Sliker Rd., Conesus, 06001300

New York County

West Street Building, 90 West St., New York, 06001303

Niagara County

First Unitarian Universalist Church of Niagara, 639 Main St., Niagara Falls, 06001301

Onondaga County

Christ Church and Manlius Village Cemeteries, East Seneca St., Manlius, 06001298

Queens County

Saint Benedict Joseph Labre Parish, 94-40 118th St., Richmond Hill, 06001297

RHODE ISLAND

Washington County

Weekapaug Inn, 25 Spray Rock Rd., Westerly, 06001305

SOUTH DAKOTA

Aurora County

Hofmeister House, 209 E. First St., White Lake, 06001307

Clay County

Yusten House, 30831 SD 19, Vermillion, 06001310

Davison County

Whittier School, 410 W. Second Ave., Mitchell, 06001309

Pennington County

Quinn Methodist Church, jct. of Elm and Main Sts., Quinn, 06001308

[FR Doc. E6-22568 Filed 1-4-07; 8:45 am]

BILLING CODE 4312-51-P